DEPARTMENT OF COMMERCE

National Oceanic and Atmospheric Administration

[I.D. 021505B]

Pacific Fishery Management Council; Public Meeting

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet March 7-11, 2005. The Council meeting will begin on Tuesday, March 8, at 8 a.m., reconvening each day through Friday. All meetings are open to the public, except a closed session will be held from 8 a.m. until 9 a.m. on Tuesday, March 8 to address litigation and personnel matters. The Council will meet as late as necessary each day to complete its scheduled business.

ADDRESSES: The meetings will be held at the DoubleTree Hotel Sacramento, 2001 Point West Way, Sacramento, CA 95815; telephone: (916) 929-8855.

Council address: Pacific Fishery Management Council, 7700 NE Ambassador Place, Suite 200, Portland, OR 97220.

FOR FURTHER INFORMATION CONTACT: Dr. Donald O. McIsaac, Executive Director; telephone: (503) 820-2280 or (866) 806-7204.

SUPPLEMENTARY INFORMATION: The following items are on the Council agenda, but not necessarily in this order:

A. Call to Order

1. Opening Remarks and Introductions

2. Roll Call

3. Executive Director's Report

4. Approve Agenda

B. Administrative Matters

1. Approval of Council Meeting Minutes

2. Initial Consideration of April Council Meeting Agenda

3. Council Operating Procedures Document

4. Legislative Matters

5. Fiscal Matters

6. Appointments to Advisory Bodies, Standing Committees, and Other Forums

7. Draft April 2005 Council Meeting Agenda and Three Meeting Plan

C. Salmon Management

1. Review of 2004 Fisheries and Summary of 2005 Stock Abundance Estimates

2. Identification of Management Objectives and Preliminary Definition of 2005 Salmon Management Options

3. Council Recommendations for 2005 Management Option Analysis

4. Update on Essential Fish Habitat Review Process

5. Council Direction for 2005 Management Options (If Necessary)

6. Adoption of 2005 Management Options for Public Review

7. Appointment of Salmon Hearings Officers

D. Pacific Halibut Management

1. Groundfish Retention in the Columbia River Subarea Recreational Halibut Fishery

2. Report on International Pacific Halibut Commission Annual Meeting

3. Public Review Options for the 2005 Incidental Catch Regulations in the Salmon Troll and Fixed Gear Sablefish Fisheries

E. Habitat

Current Habitat Issues

F. Groundfish Management

1. Inseason Management Response Policy

2. NMFS Report

3. Terms of Reference for Groundfish Rebuilding Plan Review

4. Mid-Term Optimum Yield Adjustments Policy

5. FMP Amendment 18 - Bycatch

6. Pacific Whiting Management

7. Consideration of Inseason Adjustments

G. Coastal Pelagic Species Management

1. NMFS Report

2. FMP Amendment - Krill Management Update

H. Marine Protected Areas

1. Federal Waters Portion of the Channel Islands National Marine Sanctuary (NMS)

2. Cordell Banks NMS

3. Monterey Bay NMS

I. Highly Migratory Species Management

Council Response to Bigeye Tuna Overfishing

SCHEDULE OF ANCILLARY MEETINGS
SUNDAY, MARCH 6, 2005 |
Klamath Fishery Management Council | 3 p.m. | California Salon 1
MONDAY, MARCH 7, 2005 |
Council Secretariat | 8 a.m. | American River Room
Groundfish Advisory Subpanel | 8 a.m. | El Camino Room
Groundfish Management Team | 8 a.m. | Del Paso Room
Klamath Fishery Management Council | 8 a.m. | California Salon 1
Salmon Advisory Subpanel | 8 a.m. | Terrace Room
Salmon Technical Team | 8 a.m. | Garden Room
Scientific and Statistical Committee | 8 a.m. | California Salon 2
Budget Committee | 9:30 a.m. | Executive Boardroom
Legislative Committee | 1:30 p.m. | Executive Boardroom
Tribal Policy Group | As necessary | Bear River Room
Tribal and Washington Technical Groups | As necessary | Feather River Room
Washington State Delegation | As necessary | Sacramento Room
TUESDAY, March 8, 2005 |
Council Secretariat | 7 a.m. | American River Room
California State Delegation | 7 a.m. | Terrace Room
Oregon State Delegation | 7 a.m. | El Camino Room
Groundfish Advisory Subpanel | 8 a.m. | El Camino Room
Groundfish Management Team | 8 a.m. | Del Paso Room
Salmon Advisory Subpanel | 8 a.m. | Terrace Room
Salmon Technical Team | 8 a.m. | Garden Room
Scientific and Statistical Committee | 8 a.m. | California Salon 2
Enforcement Consultants | Immediately following Council session | Executive Boardroom
Klamath Fishery Management Council | As necessary | California Salon 1
Tribal Policy Group | As necessary | Bear River Room
Tribal and Washington Technical Groups | As necessary | Feather River Board
Washington State Delegation | As necessary | Sacramento Room
WEDNESDAY, MARCH 9, 2005 |
Council Secretariat | 7 a.m. | American River Room
California State Delegation | 7 a.m. | Terrace Room
Oregon State Delegation | 7 a.m. | El Camino Room
Groundfish Advisory Subpanel | 8 a.m. | El Camino Room
Groundfish Management Team | 8 a.m. | Del Paso Room
Salmon Advisory Subpanel | 8 a.m. | Terrace Room
Salmon Technical Team | 8 a.m. | Garden Room
Enforcement Consultants | As necessary | Executive Boardroom
Klamath Fishery Management Council | As necessary | California Salon 1
Tribal Policy Group | As necessary | Bear River Room
Tribal and Washington Technical Groups | As necessary | Feather River Room
Washington State Delegation | As necessary | Sacramento Room
THURSDAY, MARCH 10, 2005 |
Council Secretariat | 7 a.m. | American River Room
California State Delegation | 7 a.m. | Terrace Room
Oregon State Delegation | 7 a.m. | El Camino Room
Groundfish Advisory Subpanel | 8 a.m. | El Camino Room
Groundfish Management Team | 8 a.m. | Del Paso Room
Salmon Advisory Subpanel | 8 a.m. | Terrace Room
Salmon Technical Team | 8 a.m. | Garden Room
Enforcement Consultants | As necessary | Executive Boardroom
Klamath Fishery Management Council | As necessary | El Camino Room
Tribal Policy Group Technical Groups | As necessary | Bear River Room
Tribal and Washington | As necessary | Feather River Room
Washington State Delegation | As necessary | Yuba River Room
FRIDAY, MARCH 11, 2005 |
Council Secretariat | 7 a.m. | American River Room
California State Delegation | 7 a.m. | Terrace Room
Oregon State Delegation | 7 a.m. | El Camino Room
Salmon Advisory Subpanel | 8 a.m. | Terrace Room
Salmon Technical Team | 8 a.m. | Garden Room
Enforcement Consultants | As necessary | Executive Boardroom
Klamath Fishery Management Council | As necessary | El Camino Room
Tribal Policy Group | As necessary | Bear River Room
Tribal and Washington Technical Groups | As necessary | Feather River Room
Washington State Delegation | As necessary | Yuba River Room

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at 503-820-2280 at least 5 days prior to the meeting date.

Dated: February 16, 2005.
Emily Menashes,
Acting Director, Office of Sustainable Fisheries, National Marine Fisheries Service.

[FR Doc. E5-683 Filed 2-18-05; 8:45 am]

BILLING CODE 3510-22-S